DEPARTMENT OF LABOR

Employment and Training Administration

[TA-W-62,630]

Llink Technologies, LLC; Brown City, MI; Notice of Affirmative Determination Regarding Application for Reconsideration

By applications dated March 3, 2008, a company official requested administrative reconsideration of the Department of Labor's Notice of Negative Determination Regarding Eligibility to Apply for Worker Adjustment Assistance, applicable to workers and former workers of the subject firm. The denial notice was signed on January 29, 2008, and published in the Federal Register on February 13, 2008 (73 FR 8370).

The initial investigation resulted in a negative determination based on the finding that imports of interior trim automotive components and subassemblies did not contribute importantly to worker separations at the subject firm and no shift of production to a foreign source occurred.

In the request for reconsideration, the petitioner provided additional information regarding the subject firm customers.

The Department has carefully reviewed the requests for reconsideration and the existing record and determined that the Department will conduct further investigation to determine if the workers meet the eligibility requirements of the Trade Act of 1974.

Conclusion

After careful review of the applications, I conclude that the claim is of sufficient weight to justify reconsideration of the Department of Labor's prior decision. The application is, therefore, granted.

Signed in Washington, DC, this 11th day of March, 2008.
Elliott S. Kushner,
Certifying Officer, Division of Trade Adjustment Assistance.

[FR Doc. E8-5730 Filed 3-20-08; 8:45 am]

BILLING CODE 4510-FN-P